COMMITTEE FOR THE IMPLEMENTATION OF TEXTILE AGREEMENTS

Request for Public Comment on a Commercial Availability Request Under the United States-Korea Free Trade Agreement

AGENCY: Committee for the Implementation of Textile Agreements (CITA).

ACTION: Request for public comments concerning a request for modification of the United States-Korea Free Trade Agreement (KORUS) rules of origin for certain textile products.

SUMMARY: The Government of the United States (“United States”) received a request from the Government of the Republic of Korea (“Korea”), submitted on November 9, 2021, to initiate consultations under Article 4.2.3 of the KORUS. Korea is requesting that the United States and Korea (“the Parties”) consider revising the rules of origin for certain woven fabrics to address availability of supply of yarns in the territories of the Parties.

The President of the United States may proclaim a modification to the KORUS rules of origin for textile and apparel products after the United States reaches an agreement with Korea on a modification under Article 4.2.5 of the KORUS to address issues of availability of supply of fibers, yarns, or fabrics in the territories of the Parties. CITA hereby solicits public comments on this request, in particular with regard to whether certain textured and non-textured triacetate filament yarns can be supplied by the U.S. domestic industry in commercial quantities in a timely manner.

DATES: Comments must be submitted by January 5, 2022.

ADDRESSES: Submit comments electronically to the Chairman, Committee for the Implementation of Textile Agreements at OTEXA_Korea_FTA@trade.gov. Please see the instructions below for other means of submissions, and submission of comments containing business confidential information.

FOR FURTHER INFORMATION CONTACT: Linda Martinich, Office of Textiles and Apparel, U.S. Department of Commerce, (202) 510-3955.

SUPPLEMENTARY INFORMATION:

Authority: Section 202(o)(2)(C) of the United States-Korea Free Trade Agreement Implementation Act (19 U.S.C. 3805 note) (KORUS Implementation Act); Executive Order 11651 of March 3, 1972, as amended.

Background: Article 4.2.3 of the KORUS provides that, on the request of either Party, the Parties shall consult to consider whether the rules of origin applicable to a particular textile or apparel good should be revised to address issues of availability of supply of fibers, yarns, or fabrics in the territories of the Parties. In the consultations, pursuant to Article 4.2.4 of the KORUS, each Party shall consider all data presented by the other Party that demonstrate substantial production in its territory of a particular fiber, yarn, or fabric. The Parties shall onsider that there is substantial production if a Party demonstrates that its domestic producers are capable of supplying commercial quantities of the fiber, yarn, or fabric in a timely manner. The KORUS Implementation Act provides the President with the authority to proclaim as part of the Harmonized Tariff Schedule of the United States, modifications to the KORUS rules of origin set out in Annex 4-A of the KORUS as are necessary to implement an agreement with Korea under Article 4.2.5 of the KORUS, subject to the consultation and layover requirements of Section 104 of the KORUS Implementation Act. See Section 202(o)(2)(C)(iii) of the KORUS Implementation Act.

Executive Order 11651 established CITA to supervise the implementation of textile trade agreements and authorizes the Chairman of CITA to take actions or recommend that appropriate officials or agencies of the United States take actions necessary to implement textile trade agreements. 37 FR 4699 (March 3, 1972) reprinted as amended in 7 U.S.C. Sec. 1854 note. The Government of the United States received a request from the Government of Korea, submitted on November 9, 2021, requesting that the United States consider whether the KORUS rule of origin for certain woven fabrics should be modified to allow the use of certain yarns that are not originating under the KORUS. The yarns subject to this request, and their specific end-uses, are described below.

Input product description | Input product classification, harmonized tariff schedule of the U.S. (HTSUS) | End-use product description | End-use product classification (HTSUS)
Certain textured and non-textured triacetate filament | 5403.33 | Woven fabric of artificial filament yarn, including woven fabric obtained from material of heading 5405 | 5408

CITA is soliciting public comments regarding this request, particularly with respect to whether the yarns described above can be supplied by the U.S. domestic industry in commercial quantities in a timely manner. Comments must be received no later than January 5, 2022. Interested persons are invited to submit such comments or information electronically to the Chairman of the Committee for the Implementation of Textile Agreements at OTEXA_Korea_FTA@trade.gov. However, if interested persons are unable to submit comments or information electronically, please contact Linda Martinich at Linda.Martinich@trade.gov or (202) 510-3955 for instructions on other means of submission. For those seeking to submit confidential business information (CBI) for Government use only, please clearly mark such submissions as CBI and submit an accompanying redacted version to be made public. Due to the ongoing COVID-19 pandemic and the current telework directive issued by the U.S. Department of Commerce, CITA has issued a temporary waiver to allow for electronic submissions, including submissions that contain business confidential information through a secure online system. This waiver will be in effect until such time as the Chairman of CITA determines that normal CITA/Department of Commerce, Office of Textiles and Apparel operations have resumed to allow for receipt of hard copy submissions. Access to the secure electronic system will be by invitation only. Interested entities planning to file a commercial availability request should contact Linda Martinich at Linda.Martinich@trade.gov for instructions before submitting any documents (either public or confidential versions) to CITA. CITA will protect any information that is marked business confidential from disclosure to the full extent permitted by law. All public versions of the comments will be posted on the Office of Textiles and Apparel website for Commercial Availability proceedings under KORUS: https://www.trade.gov/fta-commercial-availability-korea

Paul E. Morris,
Acting Chairman, Committee for the Implementation of Textile Agreements.

[FR Doc. 2021-26342 Filed 12-3-21; 8:45 am]

BILLING CODE P